ENVIRONMENTAL PROTECTION AGENCY

[FRL-6541-6]

Westgate Mobile Home Superfund Site; Notice of Proposed Settlement

AGENCY: Environmental Protection Agency.

ACTION: Notice of proposed settlement.

SUMMARY: The United States Environmental Protection Agency is proposing to enter into a settlement with the Exide Corporation for response cost pursuant to section 122(h)(1) of the Comprehensive Environmental Response, Compensation, and Liability Act (CERCLA), 42 U.S.C. 9622(h)(1) concerning the Westgate Mobile Home Superfund Site (Site) located in Greer, Greenville County, South Carolina. EPA will consider public comments on the proposed settlement for thirty (30) days. EPA may withdraw from or modify the proposed settlement should such comments disclose facts or considerations which indicate the proposed settlement is inappropriate, improper or inadequate. Copies of the proposed settlement are available from:Ms. Paula V. Batchelor,U.S. EPA, Region 4,(WMD-CPSB),61 Forsyth Street SW, Atlanta, Georgia 30303,(404) 562-8887.

Written comments may be submitted to Ms. Batchelor on or before March 9, 2000.

Dated: February 8, 2000.
Franklin E. Hill,
Chief,CERCLA Program Services Branch,Waste Management Division.

[FR Doc. 00-4234 Filed 2-22-00; 8:45 am]

BILLING CODE 6560-50-P